DEPARTMENT OF THE INTERIOR

Bureau of Land Management

[NV-040-1610-DQ]

Notice of Availability of the Proposed Resource Management Plan and Final Environmental Impact Statement for the Ely Field Office, Nevada

AGENCY: Bureau of Land Management, Interior.

ACTION: Notice of Availability.

SUMMARY: In accordance with the National Environmental Policy Act of 1969 (NEPA, 42 U.S.C. 4321 et seq.) and under the authority of the Federal Land Policy and Management Act of 1976 (FLPMA, 43 U.S.C. 1701 et seq.), the Bureau of Land Management (BLM) has prepared a Proposed Resource Management Plan/Final Environmental Impact Statement (PRMP/FEIS) for public lands and resources administered by the Ely Field Office, Nevada.

DATES: The BLM Planning Regulations set forth the provisions applicable to protests (43 CFR 1610.5-2). A person who meets the conditions as described in the regulations cited above, and who wishes to file a protest must file said protest within 30 days of the date this notice is published in the Federal Register. Additional information on protests is set forth in the Dear Reader letter of the Ely Proposed RMP and Final EIS and in the SUPPLEMENTARY INFORMATION section of this notice. To ensure compliance with the protest regulations, please consult the BLM's Planning regulations at 43 CFR 1610.5-2.

FOR FURTHER INFORMATION CONTACT: For further information and/or to have your name added to the mailing list, contact Jeff Weeks, RMP Project Manager, 702 North Industrial Way, Ely, Nevada 89301, (775) 289-1825, or correspond by e-mail to elyrmp@blm.gov.

SUPPLEMENTARY INFORMATION: The Ely RMP planning area is located in east-central Nevada in Lincoln, White Pine and a portion of Nye counties. The planning area addressed in the RMP/EIS contains approximately 11,500,000 acres of public lands administered by the BLM Ely Field Office and the Caliente Field Station. The PRMP/FEIS focuses on the principles of multiple use and sustained yield as prescribed by section 202 of the FLPMA. The following entities participated in development of the RMP as cooperating agencies with special expertise: Great Basin National Park; Humboldt-Toiyabe National Forest; Nellis Air Force Base; Nevada Department of Transportation; Nevada Division of Minerals; Nevada Department of Wildlife; Nevada State Historic Preservation Office; Lincoln County; Nye County; White Pine County; Duckwater Shoshone Tribe; Ely Shoshone Tribe; Moapa Band of Paiutes; and the Yomba Shoshone Tribe.

The public involvement and collaboration process implemented for this effort included six open houses during scoping; presentations to interested organizations upon their invitation; presentations to and suggestions from the Mojave/Southern Great Basin and the Northeastern Great Basin resource advisory councils; distribution of information via the Ely RMP website and periodic newsletters; six public meetings on the Draft RMP/EIS; and public and agency review and comment on the Draft RMP/EIS. A copy of the PRMP/FEIS will be sent to individuals, groups, and agencies who requested a copy, or as required by regulation or policy.

The PRMP/FEIS considers and analyzes five (5) alternatives, including the BLM's Proposed RMP, the No Action Alternative (continuation of existing management), and alternatives that emphasize restoration of ecological systems, commodity production, and exclusion of permitted discretionary uses. These alternatives were developed based on public input including public scoping comments; numerous meetings with local, county, state, tribal, and federal agencies (cooperating agencies); informal meetings with interested organizations upon their request; and public and agency comments on the Draft RMP/EIS. The alternatives provide for an array of alternative land use allocations and variable levels of commodity production and resource protection and restoration. After any protests are resolved and any pertinent adjustments are made, an approved RMP and Record of Decision are expected to be available by the end of 2007.

The issues addressed in the formulation of alternatives include maintenance and restoration of resiliency of vegetation within the Great Basin and Mojave Desert, protection and management of habitats for special status species, upland and riparian habitat management, noxious weed control, commercial uses (including livestock grazing, special recreation permits, mineral development, oil and gas leasing, rights-of-way, and communication use areas), designation of areas of critical environmental concern (ACECs), travel management, land disposal, and management of wild horses.

The Proposed RMP would retain three existing ACECs: Beaver Dam Slope ACEC (36,800 acres), Kane Springs ACEC (61,680 acres), Mormon Mesa ACEC (109,680 acres) and would designate 17 new ACECs (114,270 acres) for a total of 322,430 acres, which is less than 3 percent of the planning area. The new ACECs include:

Baker Archaeological Site ACEC (80 acres).

Baking Powder Flat ACEC (13,640).

Blue Mass Scenic Area ACEC (950 acres).

Condor Canyon ACEC (4,500 acres).

Hendry's Creek/Rock Animal Corral ACEC (3,650 acres).

Highland Range ACEC (6,900 acres).

Honeymoon Hills/City of Rocks ACEC (3,900 acres).

Lower Meadow Valley Wash ACEC (25,000 acres).

Mount Irish ACEC (15,100 acres).

Pahroc Rock Art ACEC (2,400 acres).

Rose Guano Bat Cave ACEC (40 acres).

Schlesser Pincushion ACEC (4,930 acres).

Shooting Gallery ACEC (15,600 acres).

Shoshone Ponds ACEC (1,240 acres).

Snake Creek Indian Burial Cave ACEC (40 acres).

Swamp Cedar ACEC (3,200 acres).

White River Valley ACEC (13,100 acres).

The following types of resource use limitations would generally apply to these ACECs: (1) Motorized travel would be limited to designated roads and trails; (2) limited collection of plants in ACECs designated for the protection of special status plants; (3) limitations on livestock grazing in ACECs designated for protection of special status plants and animals; (4) limits on land disposal and rights-of-way; and (5) closure or limits on new mineral development (mineral leasing, locatable minerals and mineral material disposal) to protect unique cultural values, special status plants and animals. For detailed information, see Section 2.4.22 of the PRMP/FEIS.

Documents pertinent to the PRMP/FEIS will be available for public review at the Ely Field Office, 702 North Industrial Way, Ely, Nevada during regular business hours, 7:30 a.m. to 4:30 p.m., Monday through Friday, except holidays. Review copies of the PRMP/FEIS are available at the following locations in and near the planning area:

BLM Caliente Field Station.

BLM Elko Field Office.

BLM Ely Field Office.

BLM Las Vegas Field Office.

BLM Nevada State Office.

Forest Service Ely Ranger District.

Great Basin National Park.

Lincoln County Courthouse.

Lincoln County Public Library.

Nye County Courthouse.

Nye County Public Library.

White Pine County Courthouse.

White Pine County Public Library.

The PRMP/FEIS may also be viewed and downloaded in PDF format at the Ely RMP Web site at http://www.blm.gov/nv/st/en/fo/ely_field_office.html.

As noted above, instructions for filing a protest with the Director of the BLM regarding the PRMP/FEIS may be found at 43 CFR 1610.5-2. Electronic mail and facsimile protests will be considered only if the protesting party provides BLM with the original letter by either regular or overnight mail postmarked by the close of the protest period. Under those conditions, the BLM will consider the electronic or facsimile version as an advance copy and it will receive full consideration. If you wish to provide the BLM with such advance notification, please direct faxed protests to the attention of the BLM protest coordinator at (202) 452-5112, and e-mails to Brenda_Hudgens-Williams@blm.gov. All protests must be in writing and mailed to one of the following addresses:

Regular Mail: Director (210), Attention: Brenda Williams, P.O. Box 66538, Washington, DC 20035.

Overnight Mail: Director (210), Attention: Brenda Williams, 1620 L Street, NW., Suite 1075, Washington, DC 20036.

Before including your address, phone number, e-mail address, or other personal identifying information in your protest, you should be aware that your entire protest—including your personal identifying information—may be made publicly available at any time. While you can ask us in your protest to withhold your personal identifying information from public review, we cannot guarantee that we will be able to do so.

As provided in 43 CFR 1610.5-2(a)(3), “The Director shall promptly render a decision on the protest. The decision shall be in writing and shall set forth the reasons for the decision. The decision shall be sent to the protesting party by certified mail, return receipt requested. The decision of the Director shall be the final decision of the Department of the Interior.”

Ron Wenker,
State Director.

[FR Doc. E7-23190 Filed 11-29-07; 8:45 am]

BILLING CODE 4310-HC-P